DEPARTMENT OF TRANSPORTATION

Federal Aviation Administration

14 CFR Part 39

[Docket No. FAA-2005-21680; Directorate Identifier 2004-SW-48-AD; Amendment 39-14341; AD 2005-21-03]

RIN 2120-AA64

Airworthiness Directives; Bell Helicopter Textron Canada Model 206A, A-1, B, B-1, L, L-1, L-3, L-4 Helicopters

AGENCY: Federal Aviation Administration, DOT.

ACTION: Final rule.

SUMMARY: This amendment adopts a new airworthiness directive (AD) for the specified Bell Helicopter Textron Canada (BHTC) model helicopters that requires, before the first flight of each day, checking the tail rotor blade (blade) root doublers (doublers) for an edge void or de-bond on both sides of each blade, and if an edge void or de-bond is found, replacing the unairworthy blade with an airworthy blade. This AD also requires replacing any affected serial-numbered blade with an airworthy blade. This amendment is prompted by reports of de-bond of the doublers due to inadequate surface preparation resulting in poor adherence of the doublers. The actions specified by this AD are intended to prevent loss of a blade, loss of tail rotor control, and subsequent loss of control of the helicopter.

DATES: Effective November 21, 2005.

ADDRESSES: You may get the service information identified in this AD from Bell Helicopter Textron Canada, 12,800 Rue de l'Avenir, Mirabel, Quebec J7J1R4, telephone (450) 437-2862 or (800) 363-8023, fax (450) 433-0272.

Examining the Docket

You may examine the docket that contains this AD, any comments, and other information on the Internet at http://dms.dot.gov, or at the Docket Management System (DMS), U.S. Department of Transportation, 400 Seventh Street, SW., Room PL-401, on the plaza level of the Nassif Building, Washington, DC.

FOR FURTHER INFORMATION CONTACT: Sharon Miles, Aviation Safety Engineer, FAA, Rotorcraft Directorate, Regulations and Guidance Group, Fort Worth, Texas 76193-0111, telephone (817) 222-5122, fax (817) 222-5961.

SUPPLEMENTARY INFORMATION: A proposal to amend 14 CFR part 39 to include an AD for the specified BHTC model helicopters was published in the Federal Register on June 28, 2005 (70 FR 37060). That action proposed to require, before the first flight of each day, checking the blade doublers for an edge void or de-bond on both sides of each blade, and if an edge void or de-bond is found, replacing the unairworthy blade with an airworthy blade. Also, that action proposed to require replacing any affected serial-numbered blade with an airworthy blade.

Transport Canada, the airworthiness authority for Canada, notified the FAA that an unsafe condition may exist on Model 206A, B, and L series helicopters. Transport Canada advises that an inadequate surface preparation on a limited number of blades resulted in two reported instances of blade root doubler de-bond. They also advise that to ensure blade integrity all suspected blades are to be checked daily until removed from service.

BHTC has issued Alert Service Bulletin Nos. 206-04-101 and 206L-04-131, both dated September 13, 2004, which specify a daily check of the doubler area to verify integrity of the doubler by a pilot as part of the daily pre-flight check. The service bulletins also specify a retirement from service of affected blades, which constitutes terminating action. Transport Canada classified these service bulletins as mandatory and issued AD No. CF-2004-25, dated November 23, 2004, to ensure the continued airworthiness of these helicopters in Canada.

These helicopter models are now manufactured in Canada and are type certificated for operation in the United States under the provisions of 14 CFR 21.29 and the applicable bilateral agreement. Pursuant to the applicable bilateral agreement, Transport Canada has kept the FAA informed of the situation described above. The FAA has examined the findings of Transport Canada, reviewed all available information, and determined that AD action is necessary for products of these type designs that are certificated for operation in the United States.

Interested persons have been afforded an opportunity to participate in the making of this amendment. No comments were received on the proposal or the FAA's determination of the cost to the public. The FAA has determined that air safety and the public interest require the adoption of the rule as proposed.

The FAA estimates that this AD will affect 2,194 helicopters of U.S. registry. The required actions will:

• Take about ¼ work hour to do a daily check for blade edge voids and de-bonds; and

• Take about 4 work hours to replace a blade at an average labor rate of $65 per work hour.

• Cost about $5,848 for a replacement blade.

Based on these figures, we estimate the total cost impact of the AD on U.S. operators to be $201,058, assuming 26 blades are affected and replaced and assuming 100 daily checks are done.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the DMS to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2005-21-03 Bell Helicopter Textron Canada: Amendment 39-14341. Docket No. FAA-2005-21680; Directorate Identifier 2004-SW-48-AD.

Applicability: Model 206A, A-1, B, B-1, L, L-1, L-3, L-4 helicopters, with tail rotor blade (blade), part number (P/N) 206-016-201-131, serial numbers with a prefix of “CS” and 4820 through 4845, installed, certificated in any category.

Compliance: Required as indicated, unless accomplished previously.

To prevent loss of a blade, loss of tail rotor control, and subsequent loss of control of the helicopter, accomplish the following:

(a) Before the first flight of each day, clean each blade and visually check the blade root doublers for an edge void or de-bond on both sides of each blade as depicted in Figure 1 of this AD. An owner/operator (pilot), holding at least a private pilot certificate, may perform this visual check and must enter compliance with this paragraph into the helicopter maintenance records by following 14 CFR sections 43.11 and 91.417(a)(2)(v).

BILLING CODE 4910-13-P

BILLING CODE 4910-13-C

(b) If an edge void or a de-bond is found, before further flight, replace the blade with an airworthy blade with a serial number other than those to which this AD applies.

(c) Within 100 hours time-in-service, replace all affected, serial-numbered blades with airworthy blades with a serial number other than those to which this AD applies.

Note 1: Bell Helicopter Textron Alert Service Bulletin Nos. 206-04-101 and 206L-04-131, both dated September 13, 2004, pertain to the subject of this AD.

(d) Replacing an affected, serial-numbered blade with an airworthy blade without an affected serial number contained in the applicability section of this AD constitutes terminating action for the requirements of this AD for that blade.

(e) To request a different method of compliance or a different compliance time for this AD, follow the procedures in 14 CFR 39.19. Contact the Safety Management Group, Rotorcraft Directorate, FAA, for information about previously approved alternative methods of compliance.

(f) Special flight permits may be issued in accordance with 14 CFR 21.197 and 21.199 to operate the helicopter to a location where the blade may be replaced provided that no doubler edge void or de-bond is found during any check or inspection.

(g) This amendment becomes effective on November 21, 2005.

Note 2: The subject of this AD is addressed in Transport Canada, Canada AD No. CF-2004-25, dated November 23, 2004.

Issued in Fort Worth, Texas, on October 7, 2005.
David A. Downey,
Manager, Rotorcraft Directorate, Aircraft Certification Service.

[FR Doc. 05-20677 Filed 10-14-05; 8:45 am]

BILLING CODE 4910-13-P